Executive Order 13321 of December 17, 2003

Appointments During National Emergency

By the authority vested in me as President by the Constitution and the laws of the United States of America, including the National Emergencies Act (50 U.S.C. 1601 et seq.), and section 301 of title 3, United States Code, and in order to further respond to the national emergency I declared in Proclamation 7463 of September 14, 2001, I hereby order as follows:

Section 1. Emergency Appointments Authority. The emergency appointments authority at section 603 of title 10, United States Code, is invoked and made available to the Secretary of Defense in accordance with the terms of that statute and of Executive Order 12396 of December 9, 1982.

Sec. 2. Judicial Review. This order is not intended to, and does not, create any right or benefit, substantive or procedural, enforceable at law or in equity by a party against the United States, its departments, agencies, entities, officers, employees or agents, or any person.

Sec. 3. Administration. This order shall be transmitted to the Congress and published in the Federal Register.

B

THE WHITE HOUSE,

December 17, 2003.

[FR Doc. 03-31594

Filed 12-22-03; 8:45 am]

Billing code 3195-01-P